DEPARTMENT OF HEALTH AND HUMAN SERVICES

Physician-Focused Payment Model Technical Advisory Committee; Meetings

ACTION: Notice of meetings.

SUMMARY: This notice announces the 2024 meetings of the Physician-Focused Payment Model Technical Advisory Committee (PTAC). These meetings include deliberation and voting on proposals for physician-focused payment models (PFPMs) submitted by individuals and stakeholder entities and may include discussions on topics related to current or previously submitted PFPMs. All meetings are open to the public.

DATES: The 2024 PTAC meetings will occur on the following dates:

Monday-Tuesday, March 25-26, 2024, from 9 a.m. to 5 p.m. ET.

Monday-Tuesday, June 10-11, 2024, from 9 a.m. to 5 p.m. ET.

Monday-Tuesday, September 16-17, 2024, from 9 a.m. to 5 p.m. ET.

Monday-Tuesday, December 2-3, 2024, from 9 a.m. to 5 p.m. ET.

Please note that times are subject to change. If the times change, the ASPE PTAC website will be updated (https://aspe.hhs.gov/ptac-physician-focused-payment-model-technical-advisory-committee) and registrants will be notified directly via email.

ADDRESSES: All PTAC meetings will be held virtually or in the Great Hall of the Hubert H. Humphrey Building, 200 Independence Avenue SW, Washington, DC 20201.

FOR FURTHER INFORMATION CONTACT: Lisa Shats, Designated Federal Officer at Lisa.Shats@hhs.gov (202) 875-0938.

SUPPLEMENTARY INFORMATION:

Agenda and Comments. PTAC will hear presentations on proposed PFPMs that have been submitted by individuals and stakeholder entities and/or discussion on topics related to current or previously submitted PFPMs. Regarding proposed PFPMs, following each presentation, PTAC will deliberate on the proposed PFPM. If PTAC completes its deliberation, PTAC will vote on the extent to which the proposed PFPM meets criteria established by the Secretary of Health and Human Services and on an overall recommendation to the Secretary (if applicable). Time will be allocated for public comments. The agenda and other documents will be posted on the PTAC section of the ASPE website, https://aspe.hhs.gov/ptac-physician-focused-payment-model-technical-advisory-committee, prior to the meeting. The agenda is subject to change. If the agenda does change, registrants will be notified directly via email, the website will be updated, and notification will be sent out through the PTAC email listserv (https://list.nih.gov/cgi-bin/wa.exe?A0=PTAC to subscribe).

Meeting Attendance. These meetings are open to the public and may be hosted in-person or virtually. We intend that in-person meetings will be held in the Great Hall of the Hubert H. Humphrey Building. The public may attend in person, when feasible, virtually, or view the meeting via livestream at www.hhs.gov/live. Information about how to access the meeting virtually or via livestream will be sent to registrants prior to the meeting; and a telephone number will be sent to registrants participating via the dial-in only option prior to the meeting. Space may be limited, and registration is preferred. When registration opens, a link to the registration page will be available at https://aspe.hhs.gov/collaborations-committees-advisory-groups/ptac/ptac-meetings prior to the meeting. Registrants will receive a confirmation email shortly after completing the registration process.

Special Accommodations. If sign language interpretation or other reasonable accommodation for a disability is needed, please contact PTAC@hhs.gov, no later than two weeks prior to the scheduled meeting.

Authority. 42 U.S.C. 1395(ee); section 101(e)(1) of the Medicare Access and CHIP Reauthorization Act of 2015; section 51003(b) of the Bipartisan Budget Act of 2018.

PTAC is governed by provisions of the Federal Advisory Committee Act, as amended (5 U.S.C. app.), which sets forth standards for the formation and use of federal advisory committees.

Dated: December 29, 2023.
Miranda Lynch-Smith,
Deputy Assistant Secretary for Human Services Policy, Performing the delegable duties of the Assistant Secretary for Planning and Evaluation.

[FR Doc. 2024-00314 Filed 1-9-24; 8:45 am]

BILLING CODE 4150-05-P